NUCLEAR REGULATORY COMMISSION

[NRC-2011-0006]

Sunshine Federal Register Notice

AGENCY HOLDING THE MEETINGS: Nuclear Regulatory Commission.

DATE: Weeks of December 5, 12, 19, 26, 2011, January 2, 9, 2012.

PLACE: Commissioners' Conference Room, 11555 Rockville Pike, Rockville, Maryland.

STATUS: Public and Closed.

Week of December 5, 2011

There are no meetings scheduled for the week of December 5, 2011.

Week of December 12, 2011—Tentative

Tuesday, December 13, 2011

9 a.m. Briefing on NFPA 805 Fire Protection (Public Meeting) (Contact: Alex Klein, (301) 415-2822)

This meeting will be webcast live at the Web address— http://www.nrc.gov.

Week of December 19, 2011—Tentative

There are no meetings scheduled for the week of December 19, 2011.

Week of December 26, 2011—Tentative

There are no meetings scheduled for the week of December 26, 2011.

Week of January 2, 2012—Tentative

There are no meetings scheduled for the week of January 2, 2012.

Week of January 9, 2012—Tentative

Wednesday, January 11, 2012

1 p.m. Briefing on Proposed Rule To Revise the Environmental Review for Renewal of Nuclear Power Plant Operating Licenses (Part 51) (Public Meeting) (Contact: Jeremy Susco, (301) 415-2927).

This meeting will be webcast live at the Web address— http://www.nrc.gov.

* * * * *

The schedule for Commission meetings is subject to change on short notice. To verify the status of meetings, call (recording)—(301) 415-1292. Contact person for more information: Rochelle Bavol, (301) 415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at (301) 415-6200, TDD: (301) 415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301) 415-1969), or send an email to darlene.wright@nrc.gov.

Dated: December 1, 2011.
Rochelle C. Bavol,
Policy Coordinator, Office of the Secretary.

[FR Doc. 2011-31363 Filed 12-2-11; 4:15 pm]

BILLING CODE 7590-01-P